DEPARTMENT OF HEALTH AND HUMAN SERVICES

Health Resources and Service Administration

Advisory Committee on Interdisciplinary, Community-Based Linkages; Notice of Meeting

In accordance with section 10(a)(2) of the Federal Advisory Committee Act (Pub. L. 92-463), notice is hereby given of the following meeting:

Name: Advisory Committee on Interdisciplinary, Community-Based Linkages (ACICBL).

Dates and Times: August 13, 2009, 8:30 a.m. to 5 p.m.

August 14, 2009, 8 a.m. to 4:30 p.m.

Place: Hilton Washington DC/Rockville, Executive Meeting Center, 1750 Rockville Pike, Rockville, Maryland 20852, Telephone: 301-468-1100.

Status: The meeting will be open to the public.

Purpose: The Committee members will focus on advancing and completing their discussions on the working topic for the mandated Ninth Annual Report—Toward Quality Healthcare Reform: Preparing the Interprofessional Healthcare Workforce for Primary Care. A number of experts have been invited to engage in dialogue with the Committee to include—Dr. David Garr, Director of the South Carolina Area Health Education Program who has confirmed his participation. Representatives from the Institute of Medicine, American Association of Colleges of Nursing, and Center for Medicare and Medicaid Services have also been invited. The meeting will afford Committee members with the opportunity to identify and discuss the current status of healthcare reform, best practices, lessons learned from the international perspective of interdisciplinary care, interprofessional competencies, and the like in an effort to ensure the appropriate formulation of recommendations for the Secretary and the Congress.

Agenda: The ACICBL agenda will include an overview of the Committee's general business activities, presentations by and dialogue with experts, and discussion sessions related to the development of recommendations to be addressed in the Ninth Annual Report of the ACICBL.

Agenda items are subject to change as dictated by the priorities of the Committee.

For Further Information Contact: Anyone requesting information regarding the ACICBL should contact Dr. Joan Weiss, Designated Federal Official for the ACICBL, Bureau of Health Professions, Health Resources and Services Administration, Parklawn Building, Rm 9-36, 5600 Fishers Lane, Rockville, Maryland 20857, (301) 443-6950 or jweiss@hrsa.gov. Additionally, CAPT Norma J. Hatot, Senior Nurse Consultant, can be contacted at (301) 443-2681 or nhatot@hrsa.gov.

Dated: June 30, 2009.
Alexandra Huttinger,
Director, Division of Policy Review and Coordination.

[FR Doc. E9-16197 Filed 7-8-09; 8:45 am]

BILLING CODE 4165-15-P